ENVIRONMENTAL PROTECTION AGENCY

40 CFR Part 60

[EPA-HQ-OAR-2010-0706; FRL-9916-57-OAR]

RIN 2060-AP06

Standards of Performance for Grain Elevators

AGENCY: Environmental Protection Agency (EPA).

ACTION: Proposed rule; extension of public comment period.

SUMMARY: The Environmental Protection Agency (EPA) is announcing that the period for providing public comments on the July 9, 2014, proposed rule titled “Standards of Performance for Grain Elevators” is being extended by 30 days.

DATES: Comments. The public comment period for the proposed rule published July 9, 2014 (79 FR 39241), is being extended by 30 days to November 6, 2014, in order to provide the public additional time to submit comments and supporting information.

ADDRESSES: Comments. Written comments on the proposed rule may be submitted to the EPA electronically, by mail, by facsimile or through hand delivery/courier. Please refer to the proposal (79 FR 39241) for the addresses and detailed instructions.

Docket. Publicly available documents relevant to this action are available for public inspection either electronically at http://www.regulations.gov or in hard copy at the EPA Docket Center, EPA WJC West Building, Room 3334, 1301 Constitution Ave. NW., Washington, DC. The Public Reading Room is open from 8:30 a.m. to 4:30 p.m., Monday through Friday, excluding legal holidays. A reasonable fee may be charged for copying. The EPA has established the official public docket for this rulemaking under Docket No. EPA-HQ-OAR-2010-0706.

World Wide Web. The EPA Web site containing information for this rulemaking is: http://www.epa.gov/ttn/atw/nsps/grain/genspspg.html.

FOR FURTHER INFORMATION CONTACT: Mr. William Schrock, Natural Resources Group (E143-03), Sector Policies and Programs Division, Research Triangle Park, North Carolina 27711; telephone number (919) 541-5032; fax number (919) 541-3470; and email address: schrock.bill@epa.gov.

SUPPLEMENTARY INFORMATION:

Comment Period

The EPA is extending the public comment period for an additional 30 days. The public comment period will end on November 6, 2014, rather than October 7, 2014. This will ensure that the public has sufficient time to review and comment on all of the information available, including the proposed rule and other materials in the docket.

List of Subjects in 40 CFR Part 60

Environmental protection, Administrative practice and procedure, Air pollution control, Intergovernmental relations, Reporting and recordkeeping requirements.

Dated: September 5, 2014.
Mary E. Henigin,
Acting Director, Office of Air Quality Planning and Standards.

[FR Doc. 2014-21811 Filed 9-15-14; 8:45 am]

BILLING CODE 6560-50-P